DEPARTMENT OF LABOR

Employment and Training Administration

[TA-W-39,742]

Republic Technologies International, LLC, Johnstown, PA; Notice of Negative Determination On Reopening

The Department on its own motion reopened the petition investigation for workers of the subject firm. The denial notice was signed on August 14, 2001, and published in the Federal Register on August 23, 2001 (66 FR 44379).

The Department initially denied TAA to workers engaged in the production of steel bar (billets), at Republic Technologies International, Johnstown, Pennsylvania, because criterion (3) of the worker group eligibility requirements of section 222 of the Trade Act of 1974, as amended, was not met. Increased imports did not contribute importantly to declines in sales or production and worker separations.

The petitioner states that an affiliated plant located in Canton, Ohio producing hot rolled steel bars was certified for TAA under TA-W-38,782. The petitioner further states that these two facilities are identical, owned and operated by the same corporation and also supply the same customers.

The billets produced at the Johnstown facility are not like and directly competitive with hot rolled steel bars produced at the Canton plant. In fact, the subject plant shipped virtually all (a negligible amount went to the Canton, Ohio plant) billet production to an affiliated plant located in Lackawanna, New York to be rolled into hot rolled steel bars. The Lackawanna, New York facility was not under any TAA certification during the relevant period. The Canton certification was based on outside customers increasing their reliance on hot rolled steel bars, not billets.

Although the Canton and Johnstown plants are operated by the same corporation, they produce different products. The two plants are not vertically integrated and therefore the Johnstown workers may not be tied to the Canton TAA certification.

Conclusion

After review of the application and investigative findings, I conclude that there has been no error or misinterpretation of the law or of the facts which would justify reconsideration of the Department of Labor's prior decision. Accordingly, the application is denied.

Signed at Washington, DC, this 30th day of October 2001.
Edward A. Tomchick,
Director, Division of Trade Adjustment Assistance.

[FR Doc. 01-28981 Filed 11-19-01; 8:45 am]

BILLING CODE 4510-30-M